FEDERAL COMMUNICATIONS COMMISSION

Notice of Public Information Collection(s) Being Submitted for Review and Approval to the Office of Management and Budget (OMB), Comments Requested

March 31, 2011.

SUMMARY: The Federal Communications Commission, as part of its continuing effort to reduce paperwork burden invites the general public and other Federal agencies to take this opportunity to comment on the following information collection(s), as required by the Paperwork Reduction Act (PRA) of 1995, 44 U.S.C. 3501—3520. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid OMB control number. No person shall be subject to any penalty for failing to comply with a collection of information subject to the Paperwork Reduction Act (PRA) that does not display a currently valid OMB control number.

DATES: Written Paperwork Reduction Act (PRA) comments should be submitted on or before June 1, 2011. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via e-mail to PRA@fcc.gov. To view a copy of this information collection request (ICR) submitted to OMB: (1) Go to the web page http://reginfo.gov/public/do/PRAMain, (2) look for the section of the web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: Judith B. Herman, Office of Managing Director, (202) 418-0214. For additional information contact Judith B. Herman, OMD, 202-418-0214 or e-mail judith-b.herman@fcc.gov.

SUPPLEMENTARY INFORMATION: OMB Control Number: 3060-0850.

Title: Quick Form Application for Authorization in the Ship, Aircraft, Amateur, Restricted and Commercial Operator, and General Mobile Radio Services.

Form Number: FCC Form 605.

Type of Review: Extension of a currently approved collection.

Respondents: Individuals or households, business or other for-profit, not-for-profit institutions, and state, local or tribal government.

Number of Respondents and Responses: 130,000 respondents; 130,000 responses.

Estimated Time per Response: 26.4 minutes (.44 hours).

Frequency of Response: On occasion and five and ten-year reporting requirements, recordkeeping requirement and third party disclosure requirement.

Obligation To Respond: Required to obtain or retain benefits.

Total Annual Burden: 57,200 hours.

Total Annual Cost: $2,676,700.

Privacy Act Impact Assessment: Yes. Records may include information about individuals or households, e.g., personally-identifiable information (PII), and the use(s) and disclosure of this information is governed by the requirements of a system of records notice (SORN), FCC/WTB-1, “Wireless Services Licensing Records.” There are no additional impacts under the Privacy Act.

Nature and Extent of Confidentiality: To protect the privacy of its applicants, the FCC will redact the telephone number(s) of the applicants and the birth date of the Commercial Radio Operator applicants.

Needs and Uses: The Commission will submit this collection to the Office of Management and Budget (OMB) during this comment period as an extension (no change in the reporting, recordkeeping and/or third party disclosure requirements).

The Commission is amending the FCC Form 605 Schedule D to rearrange the layout of Question 2 for Vanity Call Sign Change, to further clarify the filing instructions, and to define the term “in-law”. The Commission is requesting an adjustment reduction in the number of respondents/responses from 175,000 to 130,000. There is an increase in the annual cost to the respondent due to an increase in the average filing fee required to accompany applications. The total annual cost increased by $138,000.

Federal Communications Commission.
Gloria Miles,
Federal Register Liaison, Office of the Secretary, Office of Managing Director.

[FR Doc. 2011-10475 Filed 4-29-11; 8:45 am]

BILLING CODE 6712-01-P